INTERNATIONAL TRADE COMMISSION

[Investigation No. 337-TA-1345]

Certain Automated Retractable Vehicle Steps and Components Thereof; Notice of a Commission Determination Not To Review an Initial Determination Terminating the Investigation in its Entirety Based on a Consent Order Stipulation; Issuance of a Consent Order

AGENCY: International Trade Commission.

ACTION: Notice.

SUMMARY: Notice is hereby given that the U.S. International Trade Commission has determined not to review an initial determination (“ID”) (Order No. 21) of the presiding administrative law judge (“ALJ”) granting a motion for termination of the investigation as to respondent Rough Country LLC (“Rough Country”) based on a consent order stipulation. The Commission has entered a consent order against Rough Country, the last remaining respondent in the above-referenced investigation. The investigation is terminated in its entirety.

FOR FURTHER INFORMATION CONTACT: Cathy Chen, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 6, 2022. 87 FR 74661 (Dec. 6, 2022). The complaint, as supplemented, alleges violations of section 337 of the Tariff Act of 1930, as amended, 19 U.S.C. 1337, in the importation into the United States, the sale for importation, or the sale within the United States after importation of certain automated retractable vehicle steps and components thereof by reason of infringement of certain claims of U.S. Patent No. 9,272,667; U.S. Patent No. 9,527,449; U.S. Patent No. 9,511,717; and U.S. Patent No. 11,198,395. Id. The Commission's notice of investigation named as respondents Anhui Aggeus Auto-Tech Co., Ltd. (“Aggeus”) of Wuhu, China; Rough Country of Dyersburg, TN; Southern Truck LLC a/k/a/Top Gun Customz (“Southern Truck”) of Swanton, OH; Meyer Distributing, Inc. (“Meyer”) of Jasper, IN; and Earl Owen Company, Inc. (“Earl Owen”) of Carrollton, TX. Id. at 74662. The complainant is Lund Motion Products, Inc. of Brea, CA (“Lund”). Id. The Office of Unfair Import Investigations is participating in the investigation. Id.

Respondents Meyer, Earl Owen, and Southern Truck have been terminated from the investigation based on settlement. See Order No. 5 (Dec. 20, 2022), unreviewed by Comm'n Notice (Jan. 18, 2023); Order No. 7 (Dec. 27, 2022), unreviewed by Comm'n Notice (Jan. 26, 2023); Order No. 9 (Jan. 4, 2023), unreviewed by Comm'n Notice (Feb. 2, 2023).

On February 23, 2023, the ALJ granted Lund's unopposed motion to amend the complaint and notice of investigation to add Wuhu Wow-good, Auto-Tech Co. Ltd. (“Wow-good”) and Anhui Wollin International Co., Ltd. (“Wollin”) as named respondents. See Order No. 14 (Feb. 23, 2023), unreviewed by Comm'n Notice (Mar. 23, 2023).

On May 22, 2023, the Commission determined not to review an ID (Order No. 19) granting a motion to terminate the investigation in part with respect to respondents Aggeus, Wollin, and Wow-good based on the entry of a consent order. The Commission entered a consent order against Aggeus, Wollin, and Wow-good.

On May 12, 2023, the ALJ issued the subject ID (Order No. 21) granting a motion to terminate the investigation with respect to respondent Rough Country based on the entry of a consent order. The ALJ found that the consent order stipulation and proposed consent order conform with Commission Rule 210.21(c)(3) and (4) (19 CFR 210.21(c)(3) and (4)). The ID also found that termination of the investigation with respect to respondent Rough Country would not be contrary to the public interest. No petitions for review were filed.

The Commission has determined not to review the subject ID and to issue a consent order against respondent Rough Country. The investigation is terminated in its entirety.

The Commission vote for this determination took place on June 12, 2023.

The authority for the Commission's determination is contained in section 337 of the Tariff Act of 1930, as amended (19 U.S.C. 1337), and in Part 210 of the Commission's Rules of Practice and Procedure (19 CFR part 210).

By the order of the Commission.
Issued: June 12, 2023.
Lisa Barton,
Secretary to the Commission.

[FR Doc. 2023-12885 Filed 6-15-23; 8:45 am]

BILLING CODE 7020-02-P